DEPARTMENT OF COMMERCE

International Trade Administration

[A-580-841]

Structural Steel Beams from the Republic of Korea; Extension of Time Limit for Preliminary Results of Antidumping Duty Administrative Review

AGENCY: Import Administration, International Trade Administration, Department of Commerce.

EFFECTIVE DATE: April 17, 2006.

FOR FURTHER INFORMATION CONTACT: Brian Sheba, Maryanne Burke or Robert James, AD/CVD Operations, Office 7, Import Administration, International Trade Administration, U.S. Department of Commerce, 14th Street and Constitution Avenue NW., Washington, DC 20230; telephone (202) 482-0145, (202) 482-5604, or (202) 482-0649, respectively.

SUPPLEMENTARY INFORMATION:

Background

On August 31, 2005, the Department of Commerce (the Department) received timely requests from respondents Dongkuk Steel Mill Co., Ltd. (DSM) and INI Steel Company (INI) along with petitioners, Nucor Corp., Nucor-Yamato Steel Co., Steel Dynamics, Inc., and Chaparral Steel Inc. (collectively, petitioners) to conduct an administrative review of the antidumping duty order on structural steel beams from the Republic of Korea. On September 28, 2005, the Department published a notice of initiation of this administrative review, covering the period of August 1, 2004 to July 31, 2005. See Initiation of Antidumping and Countervailing Duty Administrative Reviews and Request for Revocation in Part, 70 FR 56631 (September 28, 2005). The preliminary results are currently due no later than May 3, 2006.

Extension of Time Limits for Preliminary Results

Section 751(a)(3)(A) of the Tariff Act of 1930, as amended (the Tariff Act), requires the Department to complete the preliminary results of an administrative review within 245 days after the last day of the anniversary month of an order for which a review is requested. However, if it is not practicable to complete the review within these time periods, section 751(a)(3)(A) of the Tariff Act allows the Department to extend the time limit for the preliminary results to a maximum of 365 days after the last day of the anniversary month of an order for which a review is requested.

The Department has determined that it is not practicable to complete this administrative review within the time limit mandated by section 751(a)(3)(A) of the Tariff Act. We require additional time to develop the record and examine DSM's cost of production data and issues of affiliation. Regarding INI, further analysis is necessary with respect to certain movement expenses. Accordingly, the Department is extending the time limit for completion of the preliminary results of this administrative review to August 31, 2006, which is 365 days from the last day of the anniversary month. We intend to issue the final results no later than 120 days after publication of the preliminary results notice.

This extension is issued and published in accordance with sections 751(a)(3)(A) and 777(i) of the Tariff Act.

Dated: April 4, 2006.
Stephen J. Claeys,
Deputy Assistant Secretary for Import Administration.

[FR Doc. E6-5696 Filed 4-14-06; 8:45 am]

BILLING CODE 3510-DS-S